DEPARTMENT OF TRANSPORTATION

Federal Aviation Administration

14 CFR Part 39

[Docket No. FAA-2008-0832; Directorate Identifier 2008-NM-067-AD; Amendment 39-15965; AD 2009-15-02]

RIN 2120-AA64

Airworthiness Directives; Airbus Model A318, A319, A320, and A321 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

In-service experience has shown that a fracture of the gerotor pump of the A320 RAT [ram air turbine] may occur. This may lead to the non-operation of the RAT in case of an in-flight deployment.

The Non-Deployment or Non-Pressurization of the RAT, associated with a double engine failure or a total loss of normal electrical power generation constitutes an unsafe condition.

* * * * *

We are issuing this AD to require actions to correct the unsafe condition on these products.

DATES: This AD becomes effective August 19, 2009.

The Director of the Federal Register approved the incorporation by reference of a certain publication listed in this AD as of August 19, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Discussion

We issued a notice of proposed rulemaking (NPRM) to amend 14 CFR part 39 to include an AD that would apply to the specified products. That NPRM was published in the Federal Register on August 4, 2008 (73 FR 45174). That NPRM proposed to correct an unsafe condition for the specified products. The MCAI states:

In-service experience has shown that a fracture of the gerotor pump of the A320 RAT [ram air turbine] may occur. This may lead to the non-operation of the RAT in case of an in-flight deployment.

The Non-Deployment or Non-Pressurization of the RAT, associated with a double engine failure or a total loss of normal electrical power generation constitutes an unsafe condition.

This AD mandates the replacement of the affected gerotor pump assembly, which will provide the required improved reliability of the RAT.

The implementation of this modification was originally managed by an AIRBUS monitoring campaign. However, the rate of installation of the modification by operators has not met the predicted target. As such and to ensure continued compliance with the certification requirements it is considered necessary to require compliance by use of [an] AD.

* * * * *

You may obtain further information by examining the MCAI in the AD docket.

Comments

We gave the public the opportunity to participate in developing this AD. We considered the comments received.

Request To Change Certain Compliance Times

Northwest Airlines (NWA) asks that the compliance time required by paragraph (f)(2) of the NPRM be changed from “before further flight” to “within 15 months after the effective date of the AD.” NWA states that paragraph (f)(1) allows 15 months to identify the part number and serial number of the RAT, and paragraph (f)(2) requires replacement of the suspect RAT gerotor pumps before further flight. NWA notes that this requirement is not conducive to effective planning and cost control; operators would be required to guess the number of pumps that would need replacement, which could result in unnecessary multiple orders (and resultant lead time issues) or over-purchasing of replacement pumps. NWA adds that if the location of the RAT is identified first, it would enable more efficient incorporation of the specified actions and prevent possible disruptions in schedule and costs that could result from ordering an incorrect amount of replacement parts.

We agree with NWA because the unsafe condition is addressed if the pumps are replaced within the 15 month compliance time allowed. We have changed paragraphs (f)(1) and (f)(2) of this AD to clarify that the 15-month compliance time is for all the required actions, which is consistent with the referenced EASA AD.

NWA also asks that the compliance time in paragraph (f) of the NPRM be changed from 15 months to 21 months to align with scheduled “C” checks. NWA states that this extension would allow for replacement of the gerotor in a controlled environment, which is more conducive to the type of work where both personnel and equipment are available. NWA does not believe the additional compliance time will have an appreciable effect on safety, since the FAA quotes the MCAI, which specifically states in the NPRM that the AD is being proposed as a result of limited implementation of Airbus Service Bulletin A320-29-1122, dated July 27, 2006, by operators. Therefore, NWA suggests that the compliance time necessary for replacing the RAT gerotor is not an immediate issue.

We do not agree with NWA. The NPRM does not specify that it was proposed as a result of limited implementation of Airbus Service Bulletin A320-29-1122, dated July 27, 2006; instead, it states that the rate of installation of the modification by operators has not met the predicted target of the AIRBUS monitoring campaign. That statement does not mean the unsafe condition should not be addressed in a timely manner.

In developing an appropriate compliance time for this AD, we considered the urgency associated with the subject unsafe condition and the practical aspect of accomplishing the required actions on the fleet in a timely manner. We recognize that operators may have different schedules for accomplishing heavy maintenance, but we have determined that the 15-month compliance time will include most operators' schedules for that type of work. Further, according to the provisions of paragraph (g)(1) of this AD, we may approve a request to adjust the compliance time if the request includes data that prove that the new compliance time would provide an acceptable level of safety. No change to this AD is necessary in this regard.

Retrofit Information

NWA asks that the AD not require operators to submit the retrofit information sheet, as recommended in the Accomplishment Instructions of Airbus Service Bulletin A320-29-1122, dated July 27, 2006. We agree with NWA. We have included Note 1 in this AD to clarify that the retrofit information sheet is not required.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 758 products of U.S. registry. We also estimate that it will take about 5 work-hours per product to comply with the basic requirements of this AD. The average labor rate is $80 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $303,200, or $400 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-15-02 Airbus: Amendment 39-15965. Docket No. FAA-2008-0832; Directorate Identifier 2008-NM-067-AD.

Effective Date

(a) This airworthiness directive (AD) becomes effective August 19, 2009.

Affected ADs

(b) None.

Applicability

(c) This AD applies to all Airbus Model A318, A319, A320, and A321 airplanes, certificated in any category; except airplanes on which Airbus Modification 27189 was done in production or Airbus Service Bulletin A320-29-1100 was done in service, and on which Airbus Modification 28413 was not done in production.

Subject

(d) Air Transport Association (ATA) of America Code 29: Hydraulic power.

Reason

(e) The mandatory continuing airworthiness information (MCAI) states:

In-service experience has shown that a fracture of the gerotor pump of the A320 RAT [ram air turbine] may occur. This may lead to the non-operation of the RAT in case of an in-flight deployment.

The Non-Deployment or Non-Pressurization of the RAT, associated with a double engine failure or a total loss of normal electrical power generation constitutes an unsafe condition.

This AD mandates the replacement of the affected gerotor pump assembly, which will provide the required improved reliability of the RAT.

The implementation of this modification was originally managed by an AIRBUS monitoring campaign. However, the rate of installation of the modification by operators has not met the predicted target. As such and to ensure continued compliance with the certification requirements it is considered necessary to require compliance by use of [an] AD.

* * * * *

Actions and Compliance

(f) Unless already done, do the following actions.

(1) Within 15 months after the effective date of this AD: Identify the part number (P/N) and serial number (S/N) of the RAT in accordance with the Accomplishment Instructions of Airbus Service Bulletin A320-29-1122, dated July 27, 2006.

(2) For airplanes on which a RAT with P/N 680203037 is installed that has a S/N between 0101 and 0354 inclusive: Within 15 months after the effective date of this AD, replace the gerotor pump assembly and re-identify the RAT in accordance with the Accomplishment Instructions of Airbus Service Bulletin A320-29-1122, dated July 27, 2006.

(3) For airplanes on which a RAT with P/N 680203037 is installed that does not have a S/N between 0101 and 0354 inclusive, or a RAT with a P/N other than P/N 680203037 is installed: No further action is required by this AD.

FAA AD Differences

Note 1: This AD differs from the MCAI and/or service information as follows: Although Appendix 01 of Airbus Service Bulletin A320-29-1122, dated July 27, 2006, tells you to submit information to the manufacturer, this AD specifies that such submittal is not required.

Other FAA AD Provisions

(g) The following provisions also apply to this AD:

(1) Alternative Methods of Compliance (AMOCs): The Manager, International Branch, FAA, has the authority to approve AMOCs for this AD, if requested using the procedures found in 14 CFR 39.19. Send information to ATTN: Tim Dulin, Aerospace Engineer, International Branch, ANM-116, Transport Airplane Directorate, FAA, 1601 Lind Avenue, SW., Renton, Washington 98057-3356; telephone (425) 227-2141; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(h) Refer to MCAI EASA Airworthiness Directive 2008-0034, dated February 20, 2008 [corrected February 21, 2008]; and Airbus Service Bulletin A320-29-1122, excluding Appendix 01, dated July 27, 2006, for related information.

Material Incorporated by Reference

(i) You must use Airbus Service Bulletin A320-29-1122, excluding Appendix 01, dated July 27, 2006; to do the actions required by this AD, unless the AD specifies otherwise.

(1) The Director of the Federal Register approved the incorporation by reference of this service information under 5 U.S.C. 552(a) and 1 CFR part 51.

(2) For service information identified in this AD, contact Airbus, Airworthiness Office — EAS, 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on July 2, 2009.
Ali Bahrami,
Manager, Transport Airplane Directorate, Aircraft Certification Service.

[FR Doc. E9-16466 Filed 7-14-09; 8:45 am]

BILLING CODE 4910-13-P